Title 3—

The President

Proclamation 10955 of July 2, 2025

160th Anniversary of the United States Secret Service, 2025

By the President of the United States of America

A Proclamation

On April 14, 1865, President Abraham Lincoln signed legislation authorizing the creation of the United States Secret Service, the very same day an assassin's bullet tragically took his life. Ironically, the agency he established likely could not have saved him. Its original purpose was not protection, but preservation, tasked with ending the widespread counterfeiting that threatened to destabilize the post-Civil War economy. Less than 3 months later, on July 5, 1865, the Secret Service officially began operations within the Department of the Treasury.

Over time, the agency's mission began to expand. Following the assassination attempt of William McKinley in 1901, the Congress entrusted the Secret Service with the solemn duty of protecting the President of the United States. What began as an effort to defend America's currency became a lasting commitment to defend its highest office. Today, the Secret Service stands among the Nation's most elite and storied law enforcement agencies, defined by honor, vigilance, and its enduring motto: “Worthy of Trust and Confidence.”

More than 8,000 men and women serve in the Secret Service, united by a mission that demands excellence, resilience, and steadfast loyalty. They protect the President and Vice President, their families, former presidents, major presidential candidates, and visiting foreign dignitaries. Their watch extends to the White House, the Vice President's residence, National Special Security Events, and critical sites around the world. Agents undergo intense and rigorous training to earn their post, ensuring that only the most disciplined and determined are entrusted with this sacred duty. Even in moments of grave danger, these warriors stand firm, confronting threats with unshakable resolve, unmatched skill, and the quiet strength that defines the very best of American law enforcement.

The United States Secret Service has stood as an unflinching shield against violence and mayhem, answering the call whenever danger arises to protect our national leadership. Agents have placed themselves in harm's way to protect against the attempted assassinations of President-elect Franklin Roosevelt in 1933, President Harry Truman in 1950, President Gerald Ford in 1975, President Ronald Reagan in 1981, and two attempts against my own life in 2024. In each of these moments, they acted with split-second courage and absolute devotion to duty. I witnessed their bravery firsthand—calm under pressure, fearless in the face of danger, and wholly committed to the mission. Behind these historical incidents stand countless additional threats, lives protected without fanfare, and sacrifices made without recognition. To risk laying down one's life for another is the most selfless act of patriotism and humanity, and I am forever indebted to the agents who risk everything to guard me from harm.

As we commemorate the 160th anniversary of the United States Secret Service, our Nation proudly honors the heroism, discipline, and unwavering commitment of every agent who have placed their lives in the line of fire so that our Republic, our freedom, and our glorious constitutional order may endure. Their bravery stands as a powerful testament to the spirit of America, undaunted in the face of danger and resolute in the defense of liberty.

NOW, THEREFORE, I, DONALD J. TRUMP, President of the United States of America, by virtue of the authority vested in me by the Constitution and the laws of the United States, do hereby proclaim July 5, 2025, as the 160th Anniversary of the United States Secret Service. I call upon all Americans to offer our unending gratitude and respect to the 8,000 employees of the United States Secret Service in more than 150 offices across the country and abroad that serve on the edge of danger to defend the safety and security of our communities and uphold the sovereignty and strength of our Republic.

IN WITNESS WHEREOF, I have hereunto set my hand this second day of July, in the year of our Lord two thousand twenty-five, and of the Independence of the United States of America the two hundred and forty-ninth.

[FR Doc. 2025-12731

Filed 7-7-25; 11:15 am]

Billing code 3395-F4-P